DEPARTMENT OF HOUSING AND URBAN DEVELOPMENT

[Docket No. FR-5124-N-11]

Notice of Proposed Information Collection for Public Comment; Public and Indian Housing ENERGY STAR and Energy Audit Survey

AGENCY: Office of the Assistant Secretary for Public and Indian Housing, HUD.

ACTION: Notice.

SUMMARY: The proposed information collection requirement described below will be submitted to the Office of Management and Budget (OMB) for review, as required by the Paperwork Reduction Act. The Department is soliciting public comments on the subject proposal.

DATES: Comments Due Date: August 31, 2007.

ADDRESSES: Interested persons are invited to submit comments regarding this proposal. Comments should refer to the proposal by name/or OMB Control number and should be sent to: Aneita Waites, Reports Liaison Officer, Public and Indian Housing, Department of Housing and Urban Development, 451 7th Street, SW., Room 4116, Washington, DC 20410-5000; e-mail at Aneita_l._Waites@hud.gov.

FOR FURTHER INFORMATION CONTACT: Aneita Waites, (202) 402-0713, extension 4114, for copies of the proposed forms and other available documents. (This is not a toll-free number).

SUPPLEMENTARY INFORMATION: The Department will submit the proposed information collection to OMB for review, as required by the Paperwork Reduction Act of 1995 (44 U.S.C. Chapter 35, as amended). This notice is soliciting comments from members of the public and affected agencies concerning the proposed collection of information to: (1) Evaluate whether the proposed collection of information is necessary for the proper performance of the functions of the agency, including whether the information will have practical utility; (2) evaluate the accuracy of the agency's estimate of the burden of the proposed collection of information; (3) enhance the quality, utility, and clarity of the information to be collected; and (4) minimize the burden of the collection of information on those who are to respond, including through the use of appropriate automated collection techniques or other forms of information technology; e.g., permitting electronic submission of responses.

This Notice also lists the following information:

Title of Proposal: Public and Indian Housing ENERGY STAR and Energy Audit Survey.

OMB Control Number:

Description of the need for the information and proposed use:

A survey is needed in order to respond to Congress and the mandate under the Energy Conservation Policy Act (42 U.S.C. 8251 et seq.) The information collected from the survey will be used to accurately create reports and strategies to reduce utility expenses through energy conservation measures within public housing. Thereafter, reports will be updated and sent to Congress every 2 years indicating energy strategies for energy reduction goals and how the Department of Housing and Urban Development will monitor the energy usage of public housing agencies.

Agency form number, if applicable: HUD-52465.

Members of affected public: Public Housing Agencies, State and local governments, individuals and households.

Estimation of the total number of hours needed to prepare the information collection including number of respondents, frequency of response, and hours of response:

• Total annual burden hours: 533.

• Indicate number of respondents: 3,200.

• Frequency of response: 1/ year.

• Annual hour burden: 10 minutes per respondent.

• Explanation of how burden was estimated: In-house trial and sampling of two local PHAs. Information requested should be available as part of customary and usual business practices.

Estimated Burden of Hours of the Proposed Information Collection Respondent Burden
PHA plan elements and regulation | No. of respondents: PH/HCV | No. of respondents: HCV only | × | Frequency of response | Total responses | × | Estimated hours | = | Total annual burden hours
ENERGY STAR and Energy Audit Survey | 3,200 |  |  | 1 | 3,200 |  | .167 |  | 533
Totals | 3,200 |  |  | 1 | 3,200 |  | .167 |  | 533

Burden hours estimates are based on a total of 3,200 PHAs.

Status of proposed information collection: New collection.

Authority: Section 3506 of the Paperwork Reduction Act of 1995, 44 U.S.C. Chapter 35, as amended.

Dated: June 22, 2007.
Bessy Kong,
Deputy Assistant Secretary, Office of Policy, Program and Legislative Initiatives.

[FR Doc. E7-12694 Filed 6-29-07; 8:45 am]

BILLING CODE 4210-67-P